DEPARTMENT OF TRANSPORTATION

Federal Highway Administration

[Docket No. FHWA-2012-0050]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under SUPPLEMENTARY INFORMATION. We are required to publish this notice in the Federal Register by the Paperwork Reduction Act of 1995.

DATES: Please submit comments by August 27, 2012.

ADDRESSES: You may submit comments identified by DOT Docket ID 2012-0050 by any of the following methods:

Web Site: For access to the docket to read background documents or comments received; go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Michael Nesbitt (michael.nesbitt@dot.gov), 202-366-1179 Office of Infrastructure, Federal Highway Administration, Department of Transportation, 1200 New Jersey Avenue SE., Washington, DC 20590. Office hours are from 8 a.m. to 5 p.m., Monday through Friday, except Federal holidays.

SUPPLEMENTARY INFORMATION:

Title: Engage@FHWA: Challenges, Competitions, and Contest Activities.

Background: This request is to seek generic clearance for the collection of routine information requested of responders to solicitations the Federal government makes during the issuance of challenges and competitions posted on the General Service Administration (GSA)'s Challenge.gov Web site and similar Web sites hosted by third-party vendors. Challenge competitions are increasingly being used by Federal agencies to solve complex problems and obtain innovative solutions. In this role, the Federal government places a description of a problem and parameters of the solution on the Web sites like Challenge.gov. The solutions are evaluated by the submitting agency and typically prizes (monetary and non-monetary) are awarded to the winning entries.

This clearance applies to challenges posted on Web sites like Challenge.gov which use common platforms for the solicitation of challenges from the public. FHWA program offices design the criteria for its solicitations based on the goals of the challenge and the specific needs of the agency and program office. There is no standard submission format for solution providers to follow.

We anticipate that approximately 20 challenges would be issued each year by FHWA, with an average of 30 submissions to each challenge solicitation. There is no set schedule for the issuance of challenges; they are developed and issued on an “as needed” basis in response to issues that the federal agency wishes to solve.

Although in recent memoranda the GSA and OMB described circumstances whereby OMB approval of a PRA request is not needed, program officials at FHWA have identified several sets of information that will typically need to be requested of solution providers to enable the solutions to be adequately evaluated by the FHWA program office issuing the challenge. It has been indicated that these requests for additional information require a PRA review, as they represent structured data requests.

There are four types of additional data that will be routinely requested by FHWA and its program offices. These include the following:

Title of the Submission

Due to the nature of the submission and evaluation processes, it is important that a title be requested and submitted for each submission in order to ensure the solution is correctly identified with its provider.

Identification of Data Resources

In many cases, the solution to a problem will require the solution provider to use data resources. Often, the nature of the data sets will be derived from Federal data resources, such as data.gov. Evaluations of solutions will often depend on the understanding of the selection of the data resource(s) used in the solution.

Description of Methodology

For effective judging and evaluation, a description of the development methods for the solution to the challenge will be requested. For instance, a prize may be awarded to the solution of a challenge to develop an algorithm that enables reliable prediction of a certain event. A responder could submit the correct algorithm, but without the methodology, the evaluation process could not be adequately performed.

Profession, Field of Study, Student Status (Including Major, Expected Graduation Year), and/or Business/Organization Status (Nonprofit, Government, Small-Business, For-Profit, etc.)

In order to better refine how FHWA markets the challenge, FHWA needs data on which professional fields and student majors are participating. This data is also needed to structure competitions, challenges, and contests that require categorical submissions (students, small-business, corporation, individual, etc.) Categorical submissions may be used when it is needed to award prizes in categories; and therefore, judge submissions by categories (i.e. student submissions compared to students).

The estimated annual burden request is summarized here:

Estimated total number of potential respondents: 600.

Estimated total number of potential responses per respondent: 1.

Frequency of response: Annually.

Estimated average burden (in minutes) per response: 10 minutes.

Estimated total annual burden hours: 100 hours.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of computer technology, without reducing the quality of the collected information. The agency will summarize and/or include your comments in the request for OMB's clearance of this information collection.

Authority: The Paperwork Reduction Act of 1995; 44 U.S.C. Chapter 35, as amended; and 49 CFR 1.48.

Issued on: June 22, 2012.
Steven Smith,
Chief, Information Technology Division.

[FR Doc. 2012-15920 Filed 6-27-12; 8:45 am]

BILLING CODE P